DEPARTMENT OF DEFENSE

Department of the Army; Corps of Engineers

Intent To Modify a Draft Environmental Impact Statement for Water Conservation Area 3 Decompartmentalization and Sheet-flow Enhancement in Broward County, FL

AGENCY: Department of the Army, U.S. Army Corps of Engineers, DOD.

ACTION: Notice of intent; modification.

SUMMARY: The U.S. Army Corps of Engineers (Corps), Jacksonville District, previously published a Notice of Intent (NOI) to prepare an integrated Project Implementation Report/Environmental Impact Statement (PIR/EIS) for the Water Conservation Area 3 Decompartmentalization and Sheet-flow Enhancement Project (DECOMP), Part 1 on December 4, 2003 (68 FR 67841). Following publication of the NOI, the scope of this initial part of DECOMP was altered to focus specifically on the alternatives to reduce barriers to sheet-flow within WCA 3A. Modification of eastern Tamiami Trail, south of WCA 3, will be considered in future efforts. The project's collaborator, intent, authorization, plan formulation process, and issues to be addressed remain as described in the original NOI.

DATES: The meeting dates are:

1. August 21, 2007, 6 p.m. to 8:30 p.m., West Palm Beach, FL.

2. August 23, 2007, 6 p.m. to 8:30 p.m., Pembroke Pines, FL.

ADDRESSES: The meeting locations are:

1. South Florida Water Management District, 3301 Gun Club Road, West Palm Beach, FL 33406.

2. Southwest Regional Library, 16835 Sheridan Street, Pembroke Pines, FL 33331.

FOR FURTHER INFORMATION CONTACT: U.S. Army Corps of Engineers, Planning Division, Environmental Branch, P.O. Box 4970, Jacksonville, FL 32232-0019; Attn: Mr. Ernest Clarke or by telephone at 904-232-1199 or e-mail at ernest.clarke@saj02.usace.army.mil.

SUPPLEMENTARY INFORMATION:

a. Authorization: Section 601 of the Water Resources Development Act of 2000 (Pub. L. 106-541) authorized the implementation of the DECOMP Project.

b. Study Area: The study area includes the WCA 3 and the northeast section of Everglades National Park, in Broward and Miami-Dade Counties. While the project area and area of anticipated benefits is located almost entirely within WCA 3A, the potential area of impacts is broader. Therefore, the study area considered in the report will extend from the southern end of Lake Okeechobee to the north through WCA 3A and 3B to just south of the Tamiami Trail (US 41).

c. Project Scope: The scope includes conducting an assessment of the study area and continuing plans for restoring sheet flow through WCA 3A. The evaluation of the alternatives and selection of a recommended plan will be documented in the PIR/DEIS. The alternative plans will be reviewed under provisions of appropriate laws and regulations, including the Endangered Species Act, Fish and Wildlife Coordination Act, Clean Water Act, and Farmland Protection Policy Act.

d. Preliminary Alternatives: The study includes two components of the Central & South Florida Comprehensive Everglades Restoration Plan: Backfilling the Miami Canal and with a simultaneous increase in the conveyance capacity of the North New River Canal to compensate for lost flood damage reduction and water supply capabilities. Different scales of backfilling and alternate conveyance routes will be considered.

e. Issues: The DPIR/EIS will address the following issues: impacts to aquatic and wetland habitats; water flows; hazardous and toxic waste; water quality; flood damage reduction; the impacts of land acquisition on the tax base; aesthetics and recreation; fish and wildlife resources, including protected species; cultural resources; and other impacts identified through scoping, public involvement and interagency coordination.

f. Scoping: A scoping letter and multiple public workshops will be used to invite comments on alternatives and issues from Federal, State, and local agencies, affected Indian tribes, and other interested private organizations and individuals. Two identical scoping meetings are planned for this project (see DATES and ADDRESSES). Future meetings will be announced in public notices, local newspapers, and on http://www.evergladesplan.org.

g. PIR/EIS Preparation: The PIR/EIS is currently estimated for publication in July 2009.

Brenda S. Bowen,
Army Federal Register Liaison Officer.

[FR Doc. 07-3876 Filed 8-8-07; 8:45 am]

BILLING CODE 3710-AJ-M